DEPARTMENT OF EDUCATION

President's Board of Advisors on Historically Black Colleges and Universities

AGENCY: President's Board of Advisors on Historically Black Colleges and Universities, Office of Secretary, Department of Education.

ACTION: Notice. Cancelled open public meeting.

SUMMARY: This notice is to advise members of the public of the cancellation of the open meeting of the President's Board of Advisors on Historically Black Colleges and Universities scheduled to be held on June 20, 2024 at 10:30 p.m. (EDT). The open meeting was announced in the Federal Register on Monday, May 20, 2023, in FR Doc. 2024-10920 page 43840-43841.

FOR FURTHER INFORMATION CONTACT: Sedika Franklin, Associate Director/Designated Federal Official, U.S. Department of Education, White House Initiative on Historically Black Colleges and Universities, 400 Maryland Avenue SW, Washington, DC 20204; telephone: (202) 453-5634 or (202) 453-5630, or email sedika.franklin@ed.gov.

Alexis Barrett,
Chief of Staff, Office of the Secretary.

[FR Doc. 2024-13484 Filed 6-18-24; 8:45 am]

BILLING CODE 4000-01-P